DEPARTMENT OF COMMERCE

National Oceanic and Atmospheric Administration

50 CFR Part 648

[I.D. 042803F]

New England Fishery Management Council; Public Meeting

AGENCY: National Marine Fisheries Service (NMFS), National Oceanic and Atmospheric Administration (NOAA), Commerce.

ACTION: Public meeting.

SUMMARY: The New England Fishery Management Council (Council) will hold a 3-day Council meeting on May 20 through 22, 2003, to consider actions affecting New England fisheries in the exclusive economic zone (EEZ).

DATES: The meeting will be held on Tuesday, Wednesday, and Thursday, May 20, 21, and 22, 2003. The meeting will begin at 9 a.m. on Tuesday and 8:30 a.m. on Wednesday and Thursday.

ADDRESSES: The meeting will be held at Tavern on the Harbor, 30 Western Avenue, Gloucester, MA 01930; telephone (978) 283-4200. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, May 20, 2003

Following introductions, the Council will receive reports on recent activities from the Council Chairman and Executive Director, the NMFS Regional Administrator, Northeast Fisheries Science Center and Mid-Atlantic Fishery Management Council liaisons, NOAA General Counsel and representatives of the U.S. Coast Guard, NMFS Enforcement and the Atlantic States Marine Fisheries Commission. This will be followed by a briefing on coordination of groundfish and scallop management actions. Specifically, the Council will discuss the development of Framework Adjustment 39 to the Northeast Multispecies Fishery Management Plan (FMP), which involves measures that would allow scallop vessels to fish in the Georges Bank groundfish closed areas on a controlled basis during 2004-2007. Following this agenda item and a noon time break, the Council will provide a brief opportunity for comments from the public on issues that are not otherwise listed on the agenda, but are relevant to Council business. The Enforcement Committee will then review the enforcement analyses developed for Amendment 2 to the Monkfish FMP and the groundfish habitat alternatives in Amendment 13 to the Northeast Multispecies FMP. They will also forward recommendations concerning the use of Vessel Monitoring Systems as it relates to the U.S./Canada Resource Sharing Agreement now included in draft Amendment 13. Also during the afternoon session of the meeting the Council will be provided with a progress report on the development of the Draft Supplemental Environmental Impact Statement being prepared in conjunction with Northeast Multispecies FMP Amendment 13. Before adjournment for the day, there will be an opportunity for comment on the NMFS proposed rule to extend the multispecies settlement agreement measures until Amendment 13 implementation. Items in this discussion may include but are not limited to issues that affect the recreational sector and the gillnet fishery.

Wednesday, May 21, 2003

The Monkfish Committee is scheduled to ask for approval of measures to be analyzed in the Draft Supplemental Environmental Impact Statement being prepared for Amendment 2 to the Monkfish FMP. This action is being proposed to address various problems in the monkfish management program, including the following: possible adjustments to the days-at-sea system (de-linking the use of monkfish days-at-sea from multispecies and scallop days-at-sea); incidental catch limits, measures to minimize impacts on essential fish habitat, and other components of the plan; a separate offshore fishery program in the Southern Management Area and adjustments to the limited access permit qualification criteria for vessels fishing south of 38 degrees. The Council will also consider a recommendation concerning the vessel upgrade baseline on permits that have been transferred to smaller vessels. The Superintendent of the Stellwagen Bank National Marine Sanctuary (SBNMS) will speak to the Council about revisions to the SBNMS Management Plan. The remainder of the afternoon will be spent addressing habitat issues. The Habitat Committee will review and ask for approval of habitat alternatives for inclusion in the Herring and Salmon FMPs to comply with the American Oceans Campaign versus Daley lawsuit and Magnuson-Stevens Act requirements. They will also discuss and may ask for approval of a final recommendation from the joint advisory panel on a habitat closed area alternative to be included in Amendment 13 to the Multispecies Plan. Finally, there will be discussion of the second amendment to the Omnibus Habitat Amendment including a review of the purpose and timeline.

Thursday, May 22, 2003

The final day of the meeting will begin with a presentation on the NMFS Observer Program. In addition to providing an overview, NMFS staff will address mandatory coverage, program requirements and data confidentiality. The Herring Committee will review herring assessment results forwarded by the U.S./Canada Transboundary Assessment Committee as well as the Herring Plan Development Team's recommendations concerning annual specifications for the 2004 fishing year (January 1 through December 31, 2004). The Council will also consider a recommendation to “rollover” current (2003) specifications until Amendment 2 is completed (for the 2005 fishing year) and final approval of the specifications for the 2004 fishing year. Following a noon time break there will be a report from the Rhode Island Sea Grant staff about a series of bycatch workshops hosted by the Sea Grant College Programs and held throughout New England in 2002. Prior to addressing any other outstanding business, the Council will receive an update from its Research Steering Committee on recent activities.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: April 30, 2003.
Richard W. Surdi,
Acting Director, Office of Sustainable Fisheries, National Marine Fisheries Service.

[FR Doc. 03-11086 Filed 5-5-03; 8:45 am]

BILLING CODE 3510-22-S